DEPARTMENT OF LABOR

Employment and Training Administration

Proposed Information Collection Request Submitted for Public Comment and Recommendations; Program Year (PY) 2005 Workforce Information Core Products and Services Grants Planning Guidance

ACTION: Notice.

SUMMARY: The Department of Labor (DOL), as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. PRA95 helps to ensure that requested data can be provided in the desired format, reporting burden (time and financial resources) is minimized, collection instruments are clearly understood, and the impact of collection requirements on respondents can be properly assessed.

DATES: Submit comments on or before January 10, 2004.

ADDRESSES: Send comments to Mr. Anthony Dais, Chief, Division of USES/ALMIS, Office of Workforce Investment, Employment and Training Administration, 200 Constitution Ave., NW., Rm. S-4231, Washington, DC 20210, 202-693-2784 (this is not a toll-free number) or dais.anthony@dol.gov.

FOR FURTHER INFORMATION CONTACT: Mr. Olaf Bjorklund, Division of USES/ALMIS, Office of Workforce Investment, Employment and Training Administration, 200 Constitution Ave., NW., Rm. S-4231, Washington, DC 20210, 202-693-2870 (this is not a toll-free number) or bjorklund.olaf@dol.gov.

SUPPLEMENTARY INFORMATION:

I. Background

The Employment and Training Administration (ETA) published a planning guidance for PY 2004 Workforce Information Core Products and Services grants to states in Training and Employment Guidance Letter (TEGL) 1-04, on July 2, 2004. The Office of Management and Budget (OMB) has reviewed and granted a temporary approval of the Information Collection Request for TEGL 1-04 (OMB Control Number 1205-0417). The approval expires February 28, 2005. ETA is requesting that the information collection requirements specified in TEGL 1-04 be continued as a regular OMB approval for three years. This Federal Register notice is requesting public comments and recommendations regarding the continuance of the information collection.

The collection from each grantee includes:

(a) Submission of an annual plan narrative signed by both the Administrator of the State Workforce Agency (SWA) and the Chair of the State Workforce Investment Board (SWIB), or by the Governor if the SWA and SWIB cannot agree on grant deliverables.

(b) A documented assessment of customer satisfaction with the information products and services provided with the grant funds.

(c) Submission of an annual performance report signed by both the administrator of the SWA and chair of the SWIB, or by the Governor.

II. Desired Focus of Comments

Comments should:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed collection can be obtained by contacting the office listed above in the addressee section of this notice.

III. Current Actions

Type of Review: Continuing.

Agency: Employment and Training Administration.

Title: PY 2004 Workforce Information Core Products and Services grants.

OMB Number: 1205-0417.

Affected Public: States.

Total Burden Cost (Capital/Startup): $0.

Total Burden Cost (Operating/Maintaining): $0.

Comments submitted in response to this comment request will be summarized and/or included in the request for OMB approval of the information collection request; they will also become a matter of public record.

Dated: November 3, 2004.
Gay M. Gilbert,
Administrator, Office of Workforce Investment.

[FR Doc. E4-3078 Filed 11-8-04; 8:45 am]

BILLING CODE 4510-30-P